ENVIRONMENTAL PROTECTION AGENCY

[EPA-HQ-OPP-2020-0585; FRL-10018-47]

Glyphosate Registration Review; Draft Endangered Species Act Biological Evaluations; Extension of Comment Period

AGENCY: Environmental Protection Agency (EPA).

ACTION: Notice; extension of comment period.

SUMMARY: EPA issued a notice in the Federal Register of November 27, 2020, opening a 60-day comment period on the draft nationwide biological evaluations for the registration review of the pesticide glyphosate relative to the potential effects on threatened and endangered species and their designated critical habitats. This document extends the comment period for 45 days, from January 26, 2021 to March 12, 2021.

DATES: Comments, identified by docket identification (ID) number EPA-HQ-OPP-2020-0585 must be received on or before March 12, 2021.

ADDRESSES: Follow the detailed instructions provided under ADDRESSES in the Federal Register document of November 27, 2020 (85 FR 76071) (FRL-10017-03).

FOR FURTHER INFORMATION CONTACT: Tracy Perry, Pesticide Re-Evaluation Division (7508P), Office of Pesticide Programs, Environmental Protection Agency, 1200 Pennsylvania Ave. NW, Washington, DC 20460-0001; telephone number: (703) 308-0128; email address: perry.tracy@epa.gov.

SUPPLEMENTARY INFORMATION: This document extends the public comment period established in the Federal Register document of November 27, 2020 (85 FR 76071) (FRL-10017-03), which opened a 60-day public comment period for the draft nationwide biological evaluations for the registration review of the pesticide glyphosate relative to the potential effects on threatened and endangered species and their designated critical habitats. As noted in that document, the schedule for conducting the atrazine and simazine BEs was negotiated as part of a partial settlement agreement pursuant to a joint stipulation filed on October 18, 2019 and entered by the court on October 22, 2019, in Center for Biological Diversity et al. v. EPA et al. (N.D. Ca) (3:11-cv-00293). EPA stated in that settlement that it would also include the herbicides propazine and glyphosate in this group of effects determinations. The Agency has completed a comprehensive, nationwide draft BE for the use of glyphosate relative to the potential effects on listed species and their designated critical habitats.

After considering a number of requests to extend the comment period received from various stakeholders, EPA is extending the comment period for the following reasons: (1) The length, complexity, and highly technical nature of the draft biological evaluations; (2) the need for some stakeholders to engage experts familiar with the subject matter to assist them with providing comments; (3) the large number of stakeholders potentially impacted by the draft biological evaluations; (4) the importance of soliciting feedback from stakeholders who may be affected; and (5) the stakeholders' need for additional time to review and develop constructive comments for this BE document. This document extends the comment period for 45 days, from January 26, 2021 to March 12, 2021.

To submit comments, or access the docket, please follow the detailed instructions provided under ADDRESSES in the Federal Register document of November 27, 2020. If you have any questions regarding the applicability of this action to a particular entity, consult the person listed under FOR FURTHER INFORMATION CONTACT.

Authority: 7 U.S.C. 136 et seq.

Dated: December 16, 2020.
Alexandra Dapolito Dunn,
Assistant Administrator, Office of Chemical Safety and Pollution Prevention.

[FR Doc. 2021-00862 Filed 1-14-21; 8:45 am]

BILLING CODE 6560-50-P